DEPARTMENT OF HEALTH AND HUMAN SERVICES

Health Resources and Services Administration

Agency Information Collection Activities: Submission to OMB for Review and Approval; Public Comment Request; Optimizing Virtual Care Grant Program Performance Measures, OMB No. 0906-0075—NEW

AGENCY: Health Resources and Services Administration (HRSA), Department of Health and Human Services.

ACTION: Notice.

SUMMARY: In compliance with of the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 9, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer, at paperwork@hrsa.gov or call (301) 443-9094.

SUPPLEMENTARY INFORMATION:

Information Collection Request Title: Optimizing Virtual Care Grant Program Performance Measures OMB No. 0915-0075—NEW.

Abstract: The Health Center Program and supplemental awards for health centers are authorized by section 330 of the Public Health Service Act (42 U.S.C. 254b). HRSA is authorized to make supplemental awards for health centers to “implement evidence-based models for increasing access to high-quality primary care services, which may include models related to expanding the use of telehealth and technology-enabled collaborative learning and capacity building models.” 42 U.S.C. 254b(d)(1)(E). Under the Optimizing Virtual Care (OVC) grant program, 29 high-performing health centers received 2-year supplemental awards to increase health care access and quality for underserved populations through virtual care such as telehealth, remote patient monitoring, digital patient tools, and health information technology platforms. Specifically, award recipients will use OVC funding to develop and implement innovative evidence-based strategies with the potential to be adapted, leveraged, and scaled across the Health Center Program to increase access to care and improve clinical quality by optimizing the use of virtual care with a specific focus on underserved communities and vulnerable populations.

The goal of the OVC grant program is to continue to support innovation that began during the COVID-19 pandemic, when health centers quickly expanded their use of virtual care to maintain access to essential primary care services for underserved communities. HRSA-funded health centers serve special and vulnerable populations facing barriers to virtual care access, such as low digital literacy, low connectivity capabilities, or limited technology access. The OVC grant recipients will serve as a model for how to increase equitable virtual care, generating and refining strategies that can be adapted and scaled across the Health Center Program.

A 60-day notice published in the Federal Register, 87 FR 37874-37875 (June 24, 2022). HRSA received comments from OVC grant recipients during this public comment period. A 30-day notice published in the Federal Register, 87 FR 64066-64067 (October 21, 2022). HRSA did not receive comments on the 30-day notice. However, HRSA is republishing the 30-day notice with the correct information collection instrument.

Need and Proposed Use of the Information: The information collected on OVC grant recipient activities and performance will help HRSA demonstrate, adapt, assess, and disseminate promising practices, strategies, and novel models of virtual care across the nation's health centers. The information will support an assessment that yields:

• Increased evidence of how to optimize the use of virtual care in the Health Center Program to enhance access to care and improve clinical quality for underserved communities and special and vulnerable populations.

• Maximized impact of the new OVC grant program, as a model to be adapted, leveraged, and scaled across other HRSA funding opportunities.

• Enhanced evidence base for recommendations to promote and scale virtual care innovations focused on increasing health equity and specific to Health Center Program patients.

The assessment will include descriptive analyses of the data on grant recipient activities and performance, including analyses of trends over time. The analyses will inform recommendations for performance measures that HRSA could scale across the Health Center Program and across other grant programs like the OVC grant program.

The grant recipient activities related to implementation of novel models of virtual care, including aggregate data on patients served and the services they received, will be captured via monthly progress reports. A set of health center performance measures will be captured in a bi-annual progress report and will provide insight into health equity and virtual care. Grant recipients will collect and report performance measures based on project goals and objectives that span four key population health and clinical domain areas, including (1) Increased Access to Care and Information; (2) Improve Clinical Quality and Health Outcomes; (3) Enhance Patient Care Coordination; and (4) Promote Health Equity.

Based on comments from OVC grant recipients, the average hours of burden per response for the biannual progress report has been increased to 55.9 hours from 48 hours as proposed in the 60-day notice. This new burden estimate accounts for the fact that performance measures in the biannual progress report have different levels of burden per response. For example, some measures required significant workflow changes or had more complexity. In addition, both the biannual progress and monthly progress reports were revised to include updated terms and definitions based on feedback collected from OVC grant recipients during the public comment period.

Likely Respondents: Respondents will be the 29 health centers that received supplemental awards through the OVC grant program.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
OVC Grant Monthly Progress Report | 29 | 12 | 348 | 2.0 | 696
OVC Grant Bi-Annual Progress Report | 29 | 2 | 58 | 55.9 | 3,242
| 29 |  | 406 |  | 3,938

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-02544 Filed 2-6-23; 8:45 am]

BILLING CODE 4165-15-P